DEPARTMENT OF COMMERCE

National Oceanic and Atmospheric Administration

[I.D. 022807E]

Marine Mammals; File No. 782-1719

AGENCY: National Marine Fisheries Service (NMFS), National Oceanic and Atmospheric Administration (NOAA), Commerce.

ACTION: Notice; receipt of application for amendment.

SUMMARY: Notice is hereby given that The National Marine Mammal Laboratory (NMML), Alaska Fisheries Science Center, (Dr. John L. Bengston, Principal Investigator), 7600 Sand Point Way, NE, Seattle, Washington 98115-6349, has requested an amendment to scientific research Permit No. 782-1719-04.

DATES: Written, telefaxed, or e-mail comments must be received on or before April 6, 2007.

ADDRESSES: The amendment request and related documents are available for review upon written request, or by appointment (See SUPPLEMENTARY INFORMATION).

Written comments or requests for a public hearing on this request should be submitted to the Chief, Permits, Conservation and Education Division, F/PR1, Office of Protected Resources, NMFS, 1315 East-West Highway, Room 13705, Silver Spring, MD 20910. Those individuals requesting a hearing should set forth the specific reasons why a hearing on this particular amendment request would be appropriate.

Comments may also be submitted by facsimile at (301)427-2521, provided the facsimile is confirmed by hard copy submitted by mail and postmarked no later than the closing date of the comment period.

Comments may also be submitted by e-mail. The mailbox address for providing email comments is NMFS.Pr1Comments@noaa.gov. Include in the subject line of the e-mail comment the following document identifier: File No. 782-1719-05.

FOR FURTHER INFORMATION CONTACT: Amy Hapeman or Carrie Hubard, (301)713-2289.

SUPPLEMENTARY INFORMATION: The subject amendment to Permit No. 782-1719-00, issued on June 30, 2004 (69 FR 44514) and most recently amended on November 14, 2006 is requested under the authority of the Marine Mammal Protection Act of 1972, as amended (16 U.S.C. 1361 et seq.) and the regulations governing the taking and importing of marine mammals (50 CFR part 216).

Permit No. 782-1719-04 authorizes NMML to take all species of cetaceans under NMFS jurisdiction during stock assessment activities throughout U.S. territorial waters and the high seas of the North Pacific Ocean, Southern Ocean, and Arctic Ocean. The permit authorizes Level B harassment during close approach for aerial surveys, vessel-based surveys, observations, and photo-identification and Level A harassment during biopsy sampling and attachment of scientific instruments. NMML requests an increase in the number of biopsy samples from and attachment of scientific instruments to gray whales (Eschrichtius robustus) to study the animals during their northward migration and expand their spring sampling activities in the Bering Sea and the waters of Washington and Kodiak Island, Alaska. NMML requests to increase the number of non-ESA-listed killer whales (Orcinus orca) that may be biopsy sampled and have scientific instruments attached to examine killer whale diet and movement patterns, as directed by the Marine Mammal Commission. NMML also requests harassment during close approach for aerial and vessel surveys, photo-identification, tagging, and biopsy sampling of non-endangered dwarf sperm whale (Kogia breviceps), pygmy sperm whale (Kogia simus), rough-toothed dolphin (Steno bredanensis), Hawaii spinner dolphin (Stenella longirostris), striped dolphin (Stenella coeruleoalba), and melon-headed whale (Peponocephala electra) in the North Pacific Ocean to develop reliable abundance estimates and examine stock structure. The amended permit, if issued, would be valid until the permit expires on June 30, 2009.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of this application to the Marine Mammal Commission and its Committee of Scientific Advisors.

Documents may be reviewed in the following locations:

Permits, Conservation and Education Division, Office of Protected Resources, NMFS, 1315 East-West Highway, Room 13705, Silver Spring, MD 20910; phone (301)713-2289; fax (301)427-2521;

Northwest Region, NMFS, 7600 Sand Point Way NE, BIN C15700, Bldg. 1, Seattle, WA 98115-0700; phone (206)526-6150; fax (206)526-6426;

Alaska Region, NMFS, P.O. Box 21668, Juneau, AK 99802-1668; phone (907)586-7221; fax (907)586-7249;

Southwest Region, NMFS, 501 West Ocean Blvd., Suite 4200, Long Beach, CA 90802-4213; phone (562)980-4001; fax (562)980-4018; and

Pacific Islands Region, NMFS, 1601 Kapiolani Blvd., Rm 1110, Honolulu, HI 96814-4700; phone (808)973-2935; fax (808)973-2941.

Dated: February 28, 2007.
Tammy C. Adams,
Acting Chief, Permits, Conservation and Education Division, Office of Protected Resources, National Marine Fisheries Service.

[FR Doc. E7-3899 Filed 3-6-07; 8:45 am]

BILLING CODE 3510-22-S